DEPARTMENT OF HOUSING AND URBAN DEVELOPMENT

[Docket No. FR-4560-FA-19]

Announcement of Funding Awards, Community Development Technical Assistance Programs, Fiscal Year 2000

AGENCY: Office of the Assistant Secretary for Community Planning and Development, HUD.

ACTION: Announcement of funding awards.

SUMMARY: In accordance with section 102(a)(4)(C) of the Department of Housing and Urban Development Reform Act of 1989, this notice announces the funding decisions made by the Department in a competition for funding under the Fiscal Year 2000 competition for Community Development Technical Assistance Programs. The notice contains the names of award winners and the amounts of the awards. Winners for Housing Opportunities for Persons with AIDS (HOPWA) technical assistance will be announced in a separate Federal Register Notice.

FOR FURTHER INFORMATION CONTACT: Penny McCormack, Department of Housing and Urban Development, Room 7216, 451 Seventh Street, SW., Washington, DC 20410, telephone (202) 708-3176, extension 4391. The TTY number for the hearing impaired is (202) 708-2565. (These are not toll-free numbers).

SUPPLEMENTARY INFORMATION: The purpose of the Community Development Technical Assistance competition is to select providers who can provide assistance in three Community Planning and Development programs. The purposes of technical assistance under these three programs are as follows: Community Housing Development Organizations (CHDOs) Technical Assistance—to promote the ability of CHDOs to maintain, rehabilitate and construct housing for low-income and moderate-income families, to facilitate the education of low-income homeowners and tenants, and to help women who reside in low- and moderate-income neighborhoods to rehabilitate and construct housing in these neighborhoods; HOME Technical Assistance—to help HOME participating jurisdictions design and implement HOME programs including, improving their ability to design and implement housing strategies and incorporate energy efficiency into affordable housing, facilitating the establishment and efficient operation of employer-assisted housing programs and land bank programs, and encouraging private lenders and for-profit developers of low-income housing to participate in public-private partnerships; McKinney Act Homeless Assistance Programs Technical Assistance—to provide applicants, grantees, and project sponsors for McKinney Act funded Emergency Shelter Grants, Supportive Housing Program, Section 8 Moderate Rehabilitation Single Room Occupancy and Shelter Plus Care projects with technical assistance to promote the development of housing and supportive services as part of the Continuum of Care approach, including innovative approaches to assist homeless persons in the transition from homelessness, and to enable them to live as independently as possible.

The assistance made available in this announcement is authorized by the following: CHDO Technical Assistance—HOME Investment Partnerships Act (42 U.S.C. 12773), 24 CFR part 92; HOME Technical Assistance—HOME Investment Partnerships Act (42 U.S.C. 12781-12783), 24 CFR part 92; McKinney Act Homeless Assistance Programs Technical Assistance—Supportive Housing Technical Assistance, 42 U.S.C. 11381 et seq., 24 CFR 583.140, Emergency Shelter Grant, Section 8 Moderate Rehabilitation Single Room Occupancy Program and Shelter Plus Care Technical Assistance Programs, the FY 2000 HUD Appropriations Act. The competition was announced in a Super Notice of Funding Availability (SuperNOFA) published in the Federal Register on February 24, 2000 (65 FR 9387). Applications were rated and selected for funding on the basis of selection criteria contained in that Notice.

A total of $20,108,330 was awarded to 55 providers nationwide. In accordance with section 102(a)(4)(C) of the Department of Housing and Urban Development Reform Act of 1989 (103 Stat. 1987, 42 U.S.C. 3545), the Department is publishing the awardees and amounts of the awards in Appendix A to this document.

Dated: April 16, 2001.
Donna M. Abbenante,
Acting General Deputy, Assistant Secretary.

Appendix A

FY 2000 Recipients of Funding Awards for the Community Development Technical Assistance Programs
Technical Assistance Awardee | CHDO | HOME | Homeless assistance | Total
Affordable Housing and Homeless Alliance 810 N. Vineyard Blvd., Suite 212, Honolulu, HI 96817 |  |  | $10,000 | $10,000
AIDS Housing of Washington 2025 First Ave., Suite 420 Seattle, WA 98121 |  |  | $49,200 | $49,200
Artistic Consultants and Investments, Inc., 8320 Aberdeen Road, New Orleans, LA 70126 |  |  | $40,000 | $40,000
Asian Americans for Equality, 108-110 Norfolk Street, New York, NY 10002 | $834,400 | $750,000 |  | $1,584,400
Capital Access, Inc., 237 Tasker St., Suite 200, Philadelphia, PA 19148 |  | $193, 600 |  | $193,600
Center for Poverty Solutions, 2521 N. Charles Street, Baltimore, MD 21218 |  |  | $52,000 | $52,000
Center for Urban Community Services, Inc., 120 Wall St., 25th Floor, New York, NY 10005 |  |  | $40,000 | $40,000
Coalition on Homelessness and Housing in Ohio, 85 East Gay St., Suite 603, Columbus, OH 43215 |  |  | $75,250 | $75,250
Coastal Enterprises, Inc., 36 Water Street, P.O. Box 268, Wiscasset, ME 04578 | $32,800 |  |  | $32,800
Colorado Coalition for the Homeless, 2100 Broadway, Denver, CO 80205 |  |  | $30,000 | $30,000
Common Ground, 110 Prefontaine Pl South, Suite 504, Seattle, WA 98104 |  | $102,000 | 48,700 | $150,700
Commmunity Builders, Inc., 95 Berkeley St., Suite 500, Boston, MA 02116 | $648,600 | $240,540 |  | $889,140
Congress of National Black Churches, Inc., 1225 Eye St., N.W., Washington, DC 20005 | $326,300 |  |  | $326,300
Corporation for Supportive Housing, 50 Broadway, 17th Floor, New York, NY 10004 |  |  | $279,400 | $279,400
Dennison Associates, Inc., 910 17th Street, N.W., Suite 404, Washington, DC 20006 |  | $565,558 |  | $565,558
Development Training Institute, 2510 St. Paul Street, Baltimore, MD 21218 | $1,661,300 | $1,204,680 |  | $2,865,980
Douglas-Cherokee Economic Authority, 534 E. First North St., P.O. Box 1218, Morristown, TN 37814 | $57,600 | $43,216 | $19,361 | $120,177
Education Development Center, Inc., 55 Chapel Street, Newton, MA 02458 |  |  | $94,689 | $94,689
Florida Housing Coalition, Inc., 137 E. Lafayette Street, Suite C, Tallahassee, FL 32301 | $38,400 | $28,849 |  | $67,249
Grassroots Leadership Development Program, Inc. of Lorain County, 1875 North Ridge Road East, Suite A, Lorain, OH 44055 | $80,000 |  |  | $80,000
Homebase/The Center for Common Concerns, Inc., 870 Market St., Suite 1228, San Francisco, CA 94012 |  |  | $146,000 | $146,000
Hudson Planning Group, Inc., 180 Varick St., 16th Floor, New York, NY 10014 |  |  | $129,150 | $129,150
ICF Incorporated, 9300 Lee Highway, Fairfax, VA 22031 |  | $2,885,577 |  | $2,885,577
Indiana Association for Community Economic Development, 324 West Morris Street, Indianapolis, IN 46225 | $57,600 |  |  | $57,600
Iowa Coalition for Housing and the Homeless, 713 E. Locust Street, Des Moines, IA 50309 | $44,727 |  | $44,597 | $89,324
Little Tokyo Service Center, Inc., 213 E. Third Street, Suite G106, Los Angeles, CA 90013 | $100,000 |  |  | $100,000
Local Initiatives Support Corporation, 733 Third Ave., 8th Floor, New York, NY 10017 | $969,140 | $241,350 |  | $1,210,490
Low Income Housing Development Corporation, d/b/a The Affordable Housing Group, 1300 Baxter St., Suite 269, Charlotte, NC 28204 | $124,800 | $116,326 | $16,800 | $257,926
Low Income Housing Institute, 2407 First Ave., Suite 200, Seattle, WA 98121 |  |  | $48,000 | $48,000
Maryland Center for Community Development, 1118 Light Street, Baltimore, MD 21230 | $38,400 | $37,000 |  | $75,400
Massachusetts Housing and Shelter Alliance, 5 Park Street, Boston, MA 02108 |  |  | $5,000 | $5,000
Minnesota Housing Partnership, 1821 University Ave., W, S-137, Saint Paul, MN 55104 | $156,000 | $78,000 | $74,400 | $308,400
National Affordable Housing Training Institute, 2025 M St., N.W. 8th Floor, Washington, DC 20036 | $416,740 | $876,000 |  | $1,292,740
National Puerto Rican Coalition, 1700 K St., N.W., Suite 500, Washington, DC 20006 | $167,800 | $50,000 | $272,300 | $490,100
Neighborhood Partnership Fund, 1020 SW Taylor, Suite 680, Portland, OR 97205 | $59,459 | $102,000 |  | $161,459
North Carolina Association of CDCs, P.O. Box 26208, Raleigh, NC 27611 | $50,400 |  | 16,000 | $66,400
Northwest Regional Facilitators, 525 E. Mission Avenue, Spokane, WA 99202 | $96,941 |  |  | $96,941
Ohio CDC Association, 35 E. Gay St., Suite 400, Columbus, OH 43215 | $60,800 |  |  | $60,800
Oklahoma Department of Commerce, 900 North Stiles, Oklahoma City, OK 73126 |  |  | $25,000 | $25,000
Partnership Center, Ltd., 7828 Shadowhill Way, Cincinnati, OH 45242 |  |  | $73,450 | $73,450
PPEP Microbusiness and Housing Development Corporation, 1100 East Ajo Way, Suite 209, Tucson, AZ 85713 | $256,000 |  |  | $256,000
Rural Communities Assistance Corporation, 3120 Freeboard Drive, Suite 201, West Sacramento, CA 95691 | $473,600 | $368,000 | $94,000 | $935,600
South Middlesex Opportunity Council, Inc., 300 Howard Street, Framingham, MA 01701 |  |  | $34,000 | $34,000
State of Alaska Housing Finance Corporation, P.O. Box 101020, Anchorage, AK 99510 | $30,000 | $50,000 | $40,000 | $120,000
Statewide Housing Action Coalition, 202 S. State Street, Suite 1414, Chicago, IL 60604 | $156,800 |  |  | $156,800
Supportive Housing Network of New York, 475 Riverside Drive, Suite 250, New York, NY 10115 |  | $39,150 | $245,870 | $285,020
Technical Assistance Collaborative, Inc., One Center Plaza, Suite 310, Boston, MA 02138 |  |  | $175,400 | $175,400
Texas Homeless Network, 200 East 8th Street, Austin, TX 78701 |  |  | $169,756 | $169,756
TONYA, Inc., 1000 Vermont Ave., N.W., Suite 500, Washington, DC 20005 |  | $751,354 | $836,730 | $1,588,084
Training and Development Associates, Inc., 215-C Lauchwood Drive, Laurinburg, NC 28352 |  |  | $430,450 | $430,450
Univ. of Massachusetts Boston Office of Research & Sponsored Programs, 100 Morrissey Boulevard, Boston, MA 02125 |  |  | $70,000 | $70,000
Vermont Housing and Conservation Board, 149 State Street, Montpelier, VT 05602 | $98,400 |  |  | $98,400
Virginia Department of Housing and Community Development, 501 N. Second Street, The Jackson Center, Richmond, VA 23219 | $96,000 | $96,000 |  | $192,000
Wisconsin (State) Department of Administration, Division of Housing, 101 E. Wilson St., 4th Fl., P.O. Box 8944, Madison, WI 53708 |  |  | $78,100 | $78,100
Wisconsin Partnership for Housing Development, Inc., 121 South Pinckney Street, Suite 200, Madison, WI 53703 | $284,520 | $108,000 |  | $392,520

[FR Doc. 01-10046 Filed 4-23-01; 8:45 am]

BILLING CODE 4210-29-P